DEPARTMENT OF JUSTICE

Parole Commission

Notice of Sunshine Act Meeting

TIME AND DATE: 11:30 a.m., Thursday, February 9, 2012.

PLACE: U.S. Parole Commission, 90 K Street NE., 3rd Floor, Washington, DC.

STATUS: Closed.

MATTERS TO BE CONSIDERED: Determination on one original jurisdiction case.

CONTACT PERSON FOR MORE INFORMATION: Patricia W. Moore, Staff Assistant to the Chairman, U.S. Parole Commission, 90 K Street NE., 3rd Floor, Washington, DC 20530, (202) 346-7001.

Dated: January 31, 2012.
Rockne Chickinell,
General Counsel, U.S. Parole Commission.

[FR Doc. 2012-2635 Filed 2-2-12; 4:15 pm]

BILLING CODE 4410-31-P